DEPARTMENT OF STATE

[Public Notice Number 3541]

Shipping Coordinating Committee International Maritime Organization Legal Committee; Notice of Meeting

The U.S. Shipping Coordinating Committee (SHC) will conduct an open meeting at 10:00 a.m. on Tuesday, March 6, 2001, in Room 2415 at U.S. Coast Guard Headquarters, 2100 Second Street, SW., Washington, DC. The purposes of this meeting are to prepare for: (1) The International Conference on Liability and Compensation for Bunker Oil Damage, 2001 (bunkers convention diplomatic conference); (2) an informal meeting of interested delegates to the International Maritime Organization (IMO) Legal Committee to discuss the draft protocol to the Athens Convention Relating to the Carriage of Passengers and Their Luggage By Sea (draft Athens protocol); and (3) the next meeting of the Joint International Maritime Organization/International Labor Organization Ad Hoc Expert Working Group on Liability and Compensation Regarding Claims for Death, Personal Injury and Abandonment of Seafarers (IMO/ILO Ad Hoc Expert Working Group). Finally, the meeting will afford an opportunity to review the work plan of the IMO Legal Committee and, in particular, the anticipated timeframe for submission of the draft Athens protocol and a draft Wreck Removal Convention to diplomatic conferences.

The headquarters of IMO will host the bunkers convention diplomatic conference, which will be held from 19 through 23 March 2001. This conference will consider the adoption of a draft International Convention on Liability and Compensation for Bunker Oil Pollution Damage. The headquarters of IMO tentatively also will host an informal meeting of interested delegates on March 14, 2001, to discuss outstanding issues regarding the draft Athens protocol. Finally, the IMO/ILO Ad Hoc Expert Working Group will meet at IMO headquarters from April 30 through May 4, 2001, and will continue to examine the issue of financial security for seafarers and their dependents with regard to compensation in cases of personal injury, death and abandonment.

Members of the public are invited to attend the SHC meeting up to the seating capacity of the room. For further information, or to submit views in advance of the meeting, please contact Captain Joesph F. Ahern or Lieutenant Daniel J. Goettle, U.S. Coast Guard, Office of Maritime and International Law (G-LMI), 2100 Second Street, SW., Washington, DC 20593-0001; telephone (202) 267-1527; fax (202) 267-4496.

Dated: January 22, 2001.
Mira Piplani,
International Transportation Commercial Officer, Shipping Coordinating Committee, Department of State.

[FR Doc. 01-2408 Filed 1-25-01; 8:45 am]

BILLING CODE 4710-07-P